DEPARTMENT OF COMMERCE

United States Patent and Trademark Office

[Docket No.: PTO-P-2009-0032]

Request for Comments on Patents Ombudsman Pilot Program

AGENCY: United States Patent and Trademark Office, Commerce.

ACTION: Request for comments.

SUMMARY: The United States Patent and Trademark Office (USPTO) is currently developing a Patents Ombudsman Pilot Program. The Patents Ombudsman Pilot Program is intended to provide patent applicants, attorneys and agents with assistance with application-specific issues including prosecution advancement concerns. The Patents Ombudsman Pilot Program is not intended to circumvent normal communication between pro se applicants or applicant's representatives and examiners or Supervisory Patent Examiners (SPEs). The USPTO is inviting public comment on the proposed Patents Ombudsman Pilot Program.

Comment Deadline Date: Written comments must be received on or before November 27, 2009. No public hearing will be held.

ADDRESSES: Written comments should be sent by electronic mail message over the Internet addressed to ombudsmanprogram@uspto.gov. Comments may also be submitted by mail addressed to: Mail Stop Comments (Attention: Patents Ombudsman Pilot Program), Commissioner for Patents, P.O. Box 1450, Alexandria, VA 22313-1450. Although comments may be submitted by mail, the USPTO prefers to receive comments via the Internet.

The written comments will be available for public inspection at the Office of the Commissioner for Patents, located in Madison East, Tenth Floor, 600 Dulany Street, Alexandria, Virginia, and will be available via the USPTO Internet Web site (address: http://www.uspto.gov). Because comments will be made available for public inspection, information that is not desired to be made public, such as an address or phone number, should not be included in the comments.

FOR FURTHER INFORMATION CONTACT: Mindy Fleisher, Special Programs Advisor, Technology Center 2400, at (571) 272-3365, or Pinchus M. Laufer, Legal Advisor, Office of Patent Legal Administration, Office of the Deputy Commissioner for Patent Examination Policy, at (571) 272-7726.

SUPPLEMENTARY INFORMATION: The majority of patent applications filed with the USPTO proceed through the examination process consistent with established USPTO procedure. However, some patent applicants, attorneys, and agents have expressed that their applications have not proceeded in accordance with established procedure. In some situations, the patent applicants, attorneys, and agents have felt that examination has stalled and that their efforts to move their applications forward through the normal channels have not been effective. Patent applicants, attorneys, and agents have suggested that there be a dedicated resource they can turn to in such instances. These suggestions have led the USPTO to consider implementing a Patents Ombudsman Pilot Program.

After considering its resources, the USPTO is proposing that the pilot program take the following form. It is envisioned that pro se applicants or applicant's representatives would initiate use of the Patents Ombudsman Pilot Program via a link on the USPTO web site where pro se applicants or applicant's representatives would provide their name and phone number and select the ombudsman for the patent division (e.g., Technology Center) in which they are seeking assistance; replies to the initial communication for this pilot program will be by telephone rather than by written communication, such as e-mail. The ombudsman in the appropriate division will call the pro se applicant or applicant's representative within one business day to obtain a full description of the issue. Once the full description is obtained, the ombudsman would create a record in a database. The record in the database will be solely limited to the contact information and a broad description of the issue at a level not requiring being made part of the application record. All requests for assistance made to the pilot program will be tracked in the database to: (1) Ensure that all requests for assistance are addressed; (2) identify and use trends to develop targeted training for employees as appropriate; and (3) enhance customer service. After the USPTO gains greater experience with the Patents Ombudsman Pilot Program, the USPTO will reassess whether additional information concerning the issue should be recorded and where best to make a record of that information.

If possible, the ombudsman will immediately resolve the issue (e.g., certain routine administrative issues); otherwise, the ombudsman will forward the issue to the appropriate area for review (e.g., Technical Support Staff, Technology Center Director, SPE, another business unit) and will request that the area send a message back to the ombudsman when the issue has been treated and the pro se applicant or applicant's representative has been notified.

It is intended that all issues be considered and treated within ten business days. The ombudsman in each division will regularly monitor the database to ensure that issues are being treated in a timely manner. In particular, the ombudsman will inquire into instances where five business days have elapsed and there is no indication that the issue has been closed out or is actively in the process of being treated.

The Patents Ombudsman Pilot Program is not intended as an alternative forum for resolution of disagreements between the applicant and the examiner that are currently resolved via appeal or petition. The Patents Ombudsman Pilot Program does not supplant the requirement that all business with the USPTO be conducted in writing.

See 37 CFR 1.2.

The USPTO is publishing this request for comments to gather public feedback on the Patent Ombudsman Pilot Program to ensure that it will serve the patent community as intended.

Dated: October 21, 2009.
David J. Kappos,
Under Secretary of Commerce for Intellectual Property and Director of the United States Patent and Trademark Office.

[FR Doc. E9-25798 Filed 10-26-09; 8:45 am]

BILLING CODE 3510-16-P